NUCLEAR REGULATORY COMMISSION

[Docket Nos. 50-327 and 50-328]

Tennessee Valley Authority; Notice of Withdrawal of Application for Amendments to Facility Operating Licenses

The U.S. Nuclear Regulatory Commission (the Commission) has granted the request of Tennessee Valley Authority (TVA) to withdraw its July 13, 1999, application for proposed amendments to Facility Operating Licenses Nos. DPR-77 and DPR-79 for the Sequoyah Nuclear Plant, Units 1 and 2, located in Hamilton County, Tennessee.

The proposed amendments would have revised the facility technical specifications (TS) by temporarily increasing the maximum temperature limit of the plant's ultimate heat sink, which is the Tennessee River, from 84.5°F to 87.0°F.

The Commission had previously issued a Notice of Consideration of Issuance of Amendments published in the Federal Register on July 20, 2000 (65 FR 45113). By letter dated August 21, 2000, TVA withdrew the proposed change on the basis that, with current conditions and projections, the Tennessee River temperature is forecast to remain below the Sequoyah Nuclear Plant's current TS temperature limit.

For further details with respect to this action, see the application for amendments dated July 13, 2000 and the TVA's letter dated August 21, 2000, which withdrew the application for license amendments. These documents are available for public inspection at the Commission's Public Document Room, the Gelman Building, 2120 L Street, NW., Washington, DC, and accessible electronically through the ADAMS Public Electronic Reading Room link at the NRC Web site (http://www.nrc.gov).

Dated at Rockville, Maryland, this 25th day of August 2000.
For the Nuclear Regulatory Commission.
Ronald W. Hernan,
Senior Project Manager, Section 2, Project Directorate II, Division of Licensing Project Management, Office of Nuclear Reactor Regulation.

[FR Doc. 00-22499 Filed 8-31-00; 8:45 am]

BILLING CODE 7590-01-P